DEPARTMENT OF AGRICULTURE

Forest Service

Kelsey-Beaver EIS; Kootenai National Forest, Lincoln County, Montana

AGENCY: Forest Service, USDA.

ACTION: Notice of intent to prepare an environmental impact statement.

SUMMARY: The Forest Service will prepare an Environmental Impact Statement (EIS) to analyze and disclose the environmental impacts of fire recovery activities. The project is located on the Three Rivers Ranger District, Kootenai National Forest, Lincoln County, Montana, approximately 30 air miles northeast of Troy, Montana.

The Proposed Action was developed in response to major fire events that burned over 12,100 acres in the Kelsey Creek, Roderick South, and Upper Beaver Cr. areas in August 2000. These fires resulted in significant tree mortality as well as increases in future fuel levels. The fires burned within approximately 1,200 acres of designated old growth. Increases in peak water flows in many streams are predicted to exceed maximum levels allowed by the Kootenai Forest Plan as a result of vegetation loss associated with the fires.

Following the fires, the forest conducted an assessment to develop a framework upon which to base further recovery efforts (Forest Assessment of Major Fires 2000, October 2000). This assessment identified opportunities for rehabilitation and restoration that have been carried forward into this proposal.

This project proposes to salvage timber, revegetate burned areas, improve road drainage conditions, and implement access management decisions.

The purpose and need for these activities is to: (1) Reduce fuel accumulations and the potential for reburn; (2) Recover the economic value of dead timber; (3) Increase the mature forest component in the project area; (4) Restore vegetative species appropriate to burned sites; (5) Contribute to watershed recovery processes by correcting chronic sources of sediment; (6) Provide access for fire recovery projects and public use while maintaining wildlife security.

Overall guidance of land management activities on the Kootenai National Forest, including timber harvest and road management, is provided by the Kootenai National Forest Land and Resource Management Plan (Forest Plan, September, 1987). Harvest activities may take place in the following Management Areas (MA) 10 and 11—Big Game Winter Range, MA 12—Big Game Summer Range, MA 14—Grizzly Habitat Management, MA 15—Timber Production, MA 16—Timber with Viewing, MA 17—Viewing with Timber, and MA 19—Steep Lands, as defined by the Kootenai National Forest Plan.

The Proposed Action may require a Kootenai National Forest Plan project-specific amendment to suspend MA 12 standards that require movement corridors and adjacent hiding cover be retained. The wildfires burned around some pre-fire openings, removing cover in corridors and creating larger openings. The proposed activities would remove burned material that previously provided corridor cover. Live trees and some snags and coarse woody material would be left to provide wildlife habitat and maintain soil productivity. In the larger openings, patches and corridors would be left to provide some level of security for wildlife movement through the fire areas. Openings over 40 acres would result from these proposed activities or when considered with openings created by fire.

The DEIS will analyze the direct, indirect, and cumulative environmental effects of the alternatives. Past, present, and projected activities on National Forest Lands will be considered. The DEIS will disclose the analysis of site-specific mitigation measures and their effectiveness. The DEIS is expected to be filed with the EPA and available for public review by July 2001.

Scoping Comment Date: While public participation in this analysis is welcome at any time, comments received within 30 days of the publication of this notice will be especially useful in the preparation of the Draft EIS.

ADDRESSES: Written comments and suggestions concerning the scope of the analysis should be sent to Michael L. Balboni, District Ranger, Three Rivers Ranger District, 1437 Hwy 2, Troy, MT 59935.

FOR FURTHER INFORMATION CONTACT: Contact Mike Giesey, Team Leader, Three Rivers Ranger District. Phone: (406) 295-4693.

SUPPLEMENTARY INFORMATION: The project area is approximately 61,700 acres and encompasses the Lang, Vinal, Bunker Hill, Yodkin, Beaver, Browning, Fowler, Hartman, Fix, Kelsey, Can, Zulu, Smoot, Clay, Rene Tributary, and Dutch Cr. drainages. Proposed activities within the decision area include portions of the following areas: T35N, R32W; T35N; R31W; and T36N, R30W; PMM; Lincoln County, Montana.

The Kelsey Creek (2,770 acres), Roderick South (315 acres), and Upper Beaver (9,015 acres) fires burned within this project area in August 2000, ignited by lightning strikes. A total of over 12,100 acres burned in these fires with varying severity.

To meet the purpose and need, this project proposes:

1. Treatments in areas of high severity fire (70% or more mortality) and moderate severity (20-70% mortality) to reduce fuels, recover economic value of dead trees, and where appropriate trend forest vegetation toward mature forest:

Dead trees would be salvaged where economically feasible, while protecting other resources; mortality would be based on amount of crown scorch, and/or cambium and root damage. Approximately 60% of the Kelsey Creek and Upper Beaver fire acres and 30% of the Roderick South fire acres have been dropped from further consideration for harvest because they are either in riparian areas, low fire severity areas, in unsuitable MAs, or were previously harvested. The remaining acreage is being site-specifically reviewed for inclusion in the Proposed Action.

Salvage would be accomplished by helicopter logging, and by ground based logging systems. Treatment in the high severity fire areas would resemble a regeneration clearcut or seedtree harvest due to few surviving trees in the units. Treatments in moderate severity areas would vary depending on the amount of fire mortality. Where mortality is low (20-30%), treatment would be a light commercial thinning from below. Where mortality is moderate to high (30-70%), treatments would range from commercial thinning from below to shelterwood harvest. After harvest, fuels reduction and site preparation would be accomplished through machine piling and burning or underburning.

To expedite hydrologic and vegetative recovery from the fires, salvage harvest units in high severity fire areas would be planted. Salvage harvest units in moderate severity areas may or may not be planted depending on extent of harvest, species composition present, and availability of a desirable, natural seed source. Various native tree species would be planted, with an emphasis on blister rust resistant white pine which historically occurred in greater numbers in the Yaak than found presently.

Up to a total of 9 miles of temporary road may be built, averaging ½ mile in length. Temporary roads would be obliterated after post harvest activities are completed. Existing roads needed for haul may receive reconstruction work such as brushing, blading, road drainage work, and realignment.

To ensure protection of water, fish and wildlife habitat, and other resources, the following design criteria would be employed:

Soil, Water, Fisheries Protections: All harvest proposals will meet objectives in the Soil and Water Conservation Practices Handbook 2509.22 (USDA Forest Service, 1988). Harvest proposals will be designed to minimize peak flow conditions in watersheds already exceeding Forest Plan standards.

Wildlife Corridors: The maintenance of landscape-level connectivity and the minimization of fragmentation will be incorporated into the design of all harvest alternatives.

Old Growth Protection and Enhancement: Stands with potential to become mature forest will be managed in order to develop mature forest characteristics over time, including development of large tree size, complex stand structure, large down logs, large snags and multistoried closed canopy. To encourage this development, removal of understories killed by the fire may be necessary to reduce fuel levels and the risk of a lethal reburn. Post-fire designated old growth, and replacement old growth, will not be proposed for harvest.

Roadless Area Protection: No harvest or road construction is proposed in roadless areas.

Cavity Habitat, Small Mammal Habitat and Soils Protection: Retention of snags will be a priority in order to retain an acceptable level of both hard and soft snags and of downed woody debris for wildlife and hydrological purposes, and soil productivity. In regeneration harvest units, 6-20 trees per acre will be left as snags. Approximately 5-30 tons per acre of coarse woody debris would be left for long-term soil productivity and as small mammal habitat. Two to three small slash piles per acre would be left unburned to provide habitat for small mammals.

Threatened, Endangered, and Sensitive Species Protection: No salvage harvest would occur in areas where harvest would result in a “will impact sensitive species * * * ” or “likely to adversely affect threatened and endangered” determination for these species.

2. Areas that experienced high severity fire, but are not salvaged may be planted, depending on wildlife requirements for cover, availability and type of seed sources and soil, hydrology and safety considerations. This includes past harvest units in which planted trees were destroyed by fire. Burned plantations with fuel loads that present a future fire risk to planted trees would be slashed and burned prior to replanting. These areas would be planted with various native tree species, with an emphasis on blister rust resistant white pine. Riparian areas that experienced high severity fire would be planted with a combination of native shrubs and trees. These revegetation activities may occur in high severity burn areas of the Mount Henry Roadless Area as well as areas outside this roadless area.

3. Watershed improvement activities would be implemented to reduce water routing and sediment transport from existing roads. This would be accomplished through application of Best Management Practices and activities such as outsloping, waterbarring, culvert replacement/removal or removal of the actual prism to restore a more natural surface flow pattern to the landscape. Road decommissioning and other watershed improvement activities will be identified and analyzed in the DEIS.

4. In order to implement this proposal and provide for grizzly bear security during the proposed activities, several miles of road currently restricted to public access would be opened for harvest activities and public use. To offset this, some roads that are currently open would be restricted. The Solo Joe road or the Basin Cr. road may be closed in order to open the Turner Cr. road for salvage and reforestation activities. Several more roads may be identified for access management changes during the course of the analysis.

Range of Alternatives

The Forest Service will consider a range of alternatives. One of these will be the “no action” alternative in which none of the proposed activities will be implemented. Additional alternatives will examine varying levels and locations for the proposed activities to achieve the proposal's purposes, as well as to respond to the issues and other resource values.

Preliminary Issues

Tentatively, several preliminary issues of concern have been identified. These issues are briefly described below:

Watershed and fisheries: Past management activities and wildfire events have resulted in predicted peak flows that exceed Forest Plan standards. Water Quality Limited Segments (WQLS), as defined by the state of Montana, exist within the analysis area. Though the intent of harvest and road construction design is to minimize additional impacts, there may be concerns that additional management activities could result in short-term increased peak flows and sediment production. While the intent is to maintain or improve long-term aquatic conditions, westslope cutthroat trout and other aquatic species may experience short-term impacts.

Wildlife: The proposed action could potentially reduce existing cavity habitat in snags and reduce suitable hiding cover for wildlife security.

Public Access: The implementation of the proposed action would change access within the Kelsey-Beaver Analysis Area and may affect the public's ability to use traditional routes.

Economic Value: Preliminary public comments expressed concern that the value of burned timber will be lost unless salvage logging occurs. Additional comment have voiced concern over the timeframe proposed for addressing salvage logging and expressed the need to recover the economic value of affected trees in a timely manner.

Decisions to be Made

The Kootenai Forest Supervisor will decide the following:

1. Whether or not to salvage timber and, if so, the selection and site-specific location of, appropriate timber management practices (silvicultural prescription, logging system, fuels treatment, and reforestation); road construction/reconstruction necessary to provide access and achieve other resource objectives; and appropriate mitigation measures.

2. Whether or not to revegetate riparian or other burned areas not harvested to expedite recovery.

3. Whether or not water quality improvement projects (including road decommissioning) should be implemented and, if so, to what extent.

4. Whether road access restrictions, or other actions, are necessary to meet wildlife security needs.

5. Whether or not project specific Forest Plan amendments are necessary to meet the specific purpose and need of this project, and whether those amendments are significant under NFMA.

6. What, if any, specific project monitoring requirements would be needed to assure mitigation measures are implemented and effective.

Public Involvement and Scoping

In November 2000, preliminary efforts were made to involve the public in looking at restoration and salvage opportunities within the fire areas. Comments received prior to this notice will be included in the documentation for the EIS. The public is encouraged to take part in the process and to visit with Forest Service officials at any time during the analysis and prior to the decision. The Forest Service will be seeking information, comments, and assistance from Federal, State, and local agencies, and other individuals or organizations that may be interested in, or affected by, the proposed action. This input will be used in preparation of the draft and final EIS. The scoping process will include:

• Identify potential issues.

• Identifying major issues to be analyzed in depth.

• Identify alternatives to the proposed action.

• Explore additional alternatives which will be derived from issues recognized during scoping activities.

• Identify potential environmental effects of this project and alternatives (i.e. direct, indirect, and cumulative effects and connected actions).

Estimated Dates for Filing

The Draft EIS is expected to be filed with the Environmental Protection Agency (EPA) and to be available for public review by July 2001. At that time EPA will publish a Notice of Availability of the draft EIS in the Federal Register. The comment period on the draft EIS will be 45 days from the date the EPA publishes the Notice of Availability in the Federal Register. It is very important that those interested in the management of this area participate at that time.

The final EIS is scheduled to be completed by October 2001. In the final EIS, the Forest Service is required to respond to comments and responses received during the comment period that pertain to the environmental consequences discussed in the draft EIS and to applicable laws, regulations, and policies considered in making a decision regarding the proposal.

Reviewer's Obligations

The Forest Service believes it is important to give reviewers notice of several court rulings related to public participation in the environmental review process. First reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR 1503.3 in addressing these points.

Responsible Official

As the Forest Supervisor of the Kootenai National Forest, 1101 US Highway 2 West, Libby, MT 59923, I am the Responsible Official. As the Responsible Official I will decide if the proposed project will be implemented. I will document the decision and reasons for the decision in the Record of Decision. I have delegated the responsibility to prepare the EIS to Michael L. Balboni, District Ranger, Three Rivers Ranger District.

Dated: March 5, 2001.
Bob Castaneda,
Forest Supervisor, Kootenai National Forest.

[FR Doc. 01-6123 Filed 3-12-01; 8:45 am]

BILLING CODE 3410-11-M